DEPARTMENT OF ENERGY

Federal Energy Regulatory Commission

Sunshine Act; Meetings

December 8, 2005.

The following notice of meeting is published pursuant to section 3(a) of the government in the Sunshine Act (Pub. L. No. 94-409), 5 U.S.C. 552b:

Agency Holding Meeting: Federal Energy Regulatory Commission.

Date and Time: December 15, 2005, 10 a.m.

Place: Room 2C, 888 First Street, NE., Washington, DC 20426.

Status: Open.

Matters to be Considered: Agenda.

* Note—Items listed on the agenda may be deleted without further notice.

FOR FURTHER INFORMATION CONTACT: Magalie R. Salas, Secretary, Telephone (202) 502-8400.

For a recorded listing item stricken from or added to the meeting, call (202) 502-8627.

This is a list of matters to be considered by the Commission. It does not include a listing of all papers relevant to the items on the agenda; however, all public documents may be examined in the Public Reference Room.

898th—Meeting, Regular Meeting
[December 15, 2005, 10 a.m.]
Item No. | Docket No. | Company
Administrative Agenda
A-1 | AD02-1-000 | Agency Administrative Matters
A-2 | AD02-7-000 | Customer Matters, Reliability, Security and Market Operations
A-3 | AD06-3-000 | Market Update
Markets, Tariffs, and Rates—Electric
E-1 | RM04-12-000 | Accounting and Financial Reporting for Public Utilities including RTOs
E-2 | OMITTED
E-3 | ER05-1236-000 | Duke Power
E-4 | EC05-103-000 | Duke Energy Corporation Cinergy Corp.
E-5 | ER05-1235-000 | MidAmerican Energy Company
E-6 | EC05-110-000 | MidAmerican Energy Holdings Company
|  | Scottish Power plc
|  | PacifiCorp Holdings, Inc.
|  | PacifiCorp
E-7 | ER06-78-000 ER06-78-001 | PJM Interconnection, L.L.C.
E-8 | ER06-43-000 | Commonwealth Edison Company and Exelon Generation Company
E-9 | ER06-58-000 | California Independent System Operator Corporation
E-10 | ER06-61-000 | California Independent System Operator Corporation
E-11 | ER05-1249-000 | Granite State Electric Company
| ER05-1249-001 | Massachusetts Electric Company
|  | The Narragansett Electric Company
|  | Niagara Mohawk Power Corporation
|  | New England Power Company
E-12 | OMITTED
E-13 | OMITTED
E-14 | ER93-465-034 | Florida Power & Light Company
| ER96-417-003
| ER96-1375-004
| OA96-39-011
| OA97-245-004
E-15 | OMITTED
E-16 | ER05-1085-001 | Midwest Independent Transmission System Operator
| ER04-458-008
E-17 | ER93-465-035 | Florida Power & Light Company
| ER96-417-004
| ER96-1375-005
| OA96-39-012
| OA97-245-005
E-18 | ER05-1168-000 | Attala Transmission, L.L.C.
E-19 | ER05-1056-001 | Chehalis Power Generating, L.P.
E-20 | OMITTED
E-21 | EC05-43-000 | Exelon Corporation and Public Service Enterprise
| EC05-43-001 | Group, Inc.
E-22 | ER05-666-003 | Southwest Power Pool, Inc.
E-23 | OMITTED
E-24 | OMITTED
E-25 | OMITTED
E-26 | EC05-132-000 | Nevada Power Company
|  | GenWest LLC
Markets, Tariffs, and Rates—Miscellaneous
M-1 | RM05-35-000 | Standard of Review for Modifications to Jurisdictional Agreements
Markets, Tariffs, and Rates—Gas
G-1 | PR05-19-000 | Unocal Keystone Gas Storage, LLC
G-2 | OR92-8-024 | SFPP, L.P.
| OR93-5-015
| OR94-3-014
| OR94-4-016
| OR95-5-013 | Mobil Oil Corporation v. SFPP, L.P.
| OR95-34-012 | Tosco Corporation v. SFPP, L.P.
| OR96-2-010 | ARCO Products Co. a Division of Atlantic Richfield
| OR96-2-011 | Company, Texaco Refining and Marketing Inc., and
| OR96-10-007 | Mobil Oil Corporation v. SFPP, L.P.
| OR96-10-009
| OR98-1-009
| OR98-1-011
| OR00-4-002
| OR96-2-003 | Ultramar Diamond Shamrock Corporation and
| OR96-2-010 | Ultramar, Inc. v. SFPP, L.P.
| OR96-10-008
| OR96-10-009
| OR96-17-004
| OR96-17-006
| OR97-2-004
| OR97-2-005
| OR98-2-005
| OR98-2-007
| OR00-8-005
| OR00-8-007
| OR98-13-005 | Tosco Corporation v. SFPP, L.P.
| OR98-13-007
| OR00-9-005
| OR00-9-007
| OR00-7-005 | Navajo Refining Corporation v. SFPP, L.P.
| OR00-7-006
| OR00-10-005 | Refinery Holding Company
| OR00-10-006
| S98-1-001 | SFPP, L.P.
| IS98-1-002
| IS04-323-002
Energy Projects—Hydro
H-1 | P-9401-064 | Mt. Hope Waterpower Project, LLP
H-2 | P-487-041 | PPL Holtwood, LLC
H-3 | P-12597-001 | Birch Power Company
| P-12598-001
| P-12599-001 | Wade Jacobsen
H-4 | P-2064-012 | Flambeau Hydro, LLC
H-5 | P-10395-031 | Electric Plant Board of the City of Augusta, Kentucky
Energy Projects—Certificates
C-1 | RM05-23-000 | Rate Regulation of Certain Underground Storage
| AD04-11-000 | Facilities
C-2 | CP05-416-000 | Tennessee Gas Pipeline Company

Magalie R. Sales,
Secretary.

A free Webcast of this event is available through http://www.ferc.gov. Anyone with Internet access who desires to view this event can do so by navigating to http://www.ferc.gov's Calendar of Events and locating this event in the Calendar. The event will contain a link to its Webcast. The Capitol Connection provides technical support for the free Webcasts. It also offers access to this event via television in the DC area and via phone bridge for a fee. If you have any questions, visit http://www.CapitolConnection.org or contact Danelle Perkowski or David Reininger at 703-993-3100.

Immediately following the conclusion of the Commission Meeting, a press briefing will be held in Hearing Room 2. Members of the public may view this briefing in the Commission Meeting overflow room. This statement is intended to notify the public that the press briefings that follow Commission meetings may now be viewed remotely at Commission headquarters, but will not be telecast through the Capitol Connection service.

[FR Doc. 05-24048 Filed 12-9-05; 5:23 pm]

BILLING CODE 6717-01-P